DEPARTMENT OF TRANSPORTATION

Federal Aviation Administration

14 CFR Part 39

[Docket No. 2004-NE-19-AD; Amendment 39-13197; AD 2004-26-05]

RIN 2120-AA64

Airworthiness Directives; Rolls-Royce plc RB211-524 Series Turbofan Engines; Correction

AGENCY: Federal Aviation Administration, DOT.

ACTION: Final rule; correction.

SUMMARY: This document makes a correction to airworthiness directive (AD) 2004-26-05 applicable to certain Rolls-Royce plc (RR) RB211-524 series turbofan engines that was published in the Federal Register on January 5, 2005. The part number UL29916 in the Applicability section is incorrect. This document corrects that part number. In all other respects, the original document remains the same.

DATES: Effective Date: December 12, 2006.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: A final rule airworthiness directive FR Doc, 05-85 applicable to RR RB211-524 series turbofan engines, was published in the Federal Register on January 5, 2005 (70 FR 681). The following correction is needed:

§ 39.13 [Corrected]

On page 682, in the first column, in the PART 39—AIRWORTHINESS DIRECTIVES Section, in the Applicability paragraph, in the second line, “UL29916” is corrected to read “UL26916”.

Issued in Burlington, Massachusetts, on December 5, 2006.
Diane M. Cook,
Acting Manager, Engine and Propeller Directorate, Aircraft Certification Service.

[FR Doc. E6-21122 Filed 12-11-06; 8:45 am]

BILLING CODE 4910-13-P